DEPARTMENT OF THE INTERIOR

National Park Service

Notice of Intent to Repatriate Cultural Items: County of Nacogdoches, Nacogdoches, TX

AGENCY: National Park Service, Interior.

ACTION: Notice.

Notice is here given in accordance with the Native American Graves Protection and Repatriation Act (NAGPRA), 25 U.S.C. 3005, of the intent to repatriate cultural items in the possession of the County of Nacogdoches, Nacogdoches, TX, that meet the definition of “unassociated funerary objects” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

In 2004, an incised bowl and two chert drills were removed from a burial pit at archeological site 41NA231, also known as the Tallow Grove site, in the Lake Naconiche project area, Nacogdoches County, TX. The removal was associated with archeological data recovery in an area to be impacted by construction and/or operation of Lake Naconiche. No preserved human remains were in the burial pit.

The Tallow Grove site, 41NA231, is a Middle Caddo Period habitation on a late Holocene terrace near Naconiche Creek. The temporal context is supported by recovered temporally diagnostic artifacts, radiocarbon analyses, and oxidizable carbon ratio dates. The main occupation of the site took place between the early part of the 13th century and approximately A.D. 1480, and was preceded by an earlier Woodland Period occupation that dates from 110 B.C. to A.D. 435. None of the radiocarbon-dated features are earlier than the Middle Caddo Period. The small cemetery (approximately 8 x 6 meters), situated near the remnants of several structures, and an extensive midden deposit and outdoor work area, contained eight burials. Five burials had preserved human remains (two of these burials included associated funerary objects), two burial pits preserved neither human remains nor associated funerary objects, and one burial pit preserved no human remains, but did contain the unassociated funerary objects described above. The mortuary practices and types of associated and unassociated funerary objects are consistent with the traditions of the Caddo Indian peoples. Preserved funerary offerings included pottery vessels placed near the shoulders or head. Geographic placement of the site and archeological evidence provide a reasonable basis for the officials of the County of Nacogdoches to believe that the unassociated funerary objects are culturally affiliated with the Caddo Nation of Oklahoma.

Officials of the County of Nacogdoches have determined that, pursuant to 25 U.S.C. 3001 (3)(B), the three cultural items described above are reasonably believed to have been placed with or near individual human remains at the time of death or later as part of the death rite or ceremony and are believed, by a preponderance of the evidence, to have been removed from a specific burial site of a Native American individual. Officials of the County of Nacogdoches also have determined that, pursuant to 25 U.S.C. 3001 (2), there is a relationship of shared group identity that can be reasonably traced between the unassociated funerary objects and the Caddo Nation of Oklahoma.

Representatives of any other Indian tribe that believes itself to be culturally affiliated with the unassociated funerary objects should contact George Campbell, County of Nacogdoches, 101 West Main Street, Nacogdoches, TX 75961, telephone (936) 569-6772, before April 13, 2009. Repatriation of the unassociated funerary objects to the Caddo Nation of Oklahoma may proceed after that date if no additional claimants come forward.

The County of Nacogdoches is responsible for notifying the Caddo Nation of Oklahoma that this notice has been published.

Dated: February 20, 2009
David Tarler,
Acting Manager, National NAGPRA Program.

[FR Doc. E9-5330 Filed 3-11-09; 8:45 am]

BILLING CODE 4312-50-S